DEPARTMENT OF COMMERCE

National Oceanic and Atmospheric Administration

[RTID 0648-XE834]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Gloucester Marine Genomics Institute. Regulations under the Magnuson-Stevens Fishery Conservation and Management Act and the Atlantic Coastal Fisheries Cooperative Management Act require publication of this notification to provide interested parties the opportunity to comment on applications for proposed EFPs.

DATES: Comments must be received on or before August 1, 2025.

ADDRESSES: You may submit written comments by the following method:

• Email: nmfs.gar.efp@noaa.gov. Include in the subject line “GMGI 2025 Lobster Genomics EFP”.

All comments received are a part of the public record and will generally be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Caroline Potter, Fishery Resource Management Specialist, Caroline.Potter@noaa.gov, (978) 281-9325.

SUPPLEMENTARY INFORMATION: The Gloucester Marine Genomics Institute submitted a complete application for an EFP to conduct commercial fishing activities that the regulations would otherwise restrict. This EFP would exempt the participating vessels from the following Federal regulations:

Table 1—Requested Exemptions
CFR citation | Regulation | Need for exemption
50 CFR 697.20(c)(2) | Lobster Mutilation | Landing legs from ovigerous female lobsters.

Table 2—Project Summary
Project title | Genomic population structure of American lobster in U.S. waters for stock delineation.
Project start | 06/01/2025.
Project end | 01/31/2026.
Project objectives | To assess spatial stock structure and signals of natural selection of American lobster.
Project location | Statistical Areas 515, 562, 526, 537, 616, and 611.
Number of vessels | Up to 7.
Number of trips | Approximately 7.
Trip duration (days) | 3.
Total number of days | Approximately 21.
Gear type(s) | Lobster pots.
Number of tows or sets | 30 per trip.
Duration of tows or sets | 1 day.

Project Narrative

This project would assess spatial stock structure and signals of natural selection of American lobster by using a population genomics approach. The intention is for the project to assist in improving management unit delineations for lobster in the Gulf of Maine, Georges Bank, and Southern New England regions. To achieve this, the project sets four aims: (1) improve the chromosome-level reference genome assembly for the American lobster; (2) build collaborative partnerships with commercial lobstermen and regional lobster biologists by collecting lobster tissue samples from locations throughout U.S. waters and one Canadian location; (3) assess genetic population structure and interpret responses to regional and environmental conditions recorded within the genome; and (4) disseminate results to the Atlantic States Marine Fisheries Commission's American Lobster Technical Committee to improve stock delineations and management strategies.

While the overall project targets 21 locations in state and Federal waters, this EFP only includes vessels fishing at 7 of these locations of which 6 would be in Federal waters and 1 would be in Long Island Sound. At each of the seven locations, fishermen would fish for lobster using standard lobster pots, which would be configured and set consistent with offshore lobster fishing practices. This fishing activity is planned to be conducted as part of the fishermen's regular fishing activity. Legal lobsters that are harvested during the trips would be landed for sale. For each late-stage egg-bearing female, the fishermen would remove for collection the smallest walking leg. After recording carapace length and latitude and longitude, the female would be released. A maximum of 280 samples would be collected from across the 7 locations, with a target sample size of 25 at each location. One trip would be taken for each location with each trip lasting three days.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 14, 2025.
Kelly Denit,
Director, Office of Sustainable Fisheries, National Marine Fisheries Service.

[FR Doc. 2025-06588 Filed 4-16-25; 8:45 am]

BILLING CODE 3510-22-P